ENVIRONMENTAL PROTECTION AGENCY

40 CFR Part 51

[FRL-7579-6]

Revisions to the Regional Haze Rule To Correct Mobile Source Provisions in Optional Program for Nine Western States and Eligible Indian Tribes Within That Geographic Area; Direct Final Rule, Removal of Amendments

AGENCY: Environmental Protection Agency (EPA).

ACTION: Direct final rule; removal of amendments.

SUMMARY: On July 3, 2003, (68 FR 39842), EPA published a direct final rule to approve a correction to the mobile source provisions in the regional haze rule. EPA stated in that direct final action that, if we received adverse comment by August 4, 2003, we would publish a timely withdrawal in the Federal Register. EPA subsequently received adverse comment on that direct final rule but did not timely publish the withdrawal. In this action, EPA is removing the amendments that were published in the July 3, 2003, direct final rule. We will address all public comments in a subsequent final action on the parallel proposed rule amendment (68 FR 39888).

DATES: This action is effective as of October 28, 2003.

ADDRESSES: Docket. Materials relevant to the direct final rule that was published in the Federal Register on July 3, 2003 (68 FR 39842) are contained in Public Docket Number OAR-2002-0076 at the following address: EPA Docket Center (EPA/DC), Public Reading Room, Room B102, EPA West Building, 1301 Constitution Avenue, NW., Washington DC. The EPA Docket Center Public Reading Room is open from 8:30 a.m. to 4:30 p.m., Monday through Friday, except on government holidays. You can reach the Reading Room by telephone at (202) 566-1744, and by facsimile at (202) 566-1741. The telephone number for the Air Docket is (202) 566-1742. You may be charged a reasonable fee for photocopying docket materials, as provided in 40 CFR part 2.

Electronic Access. You may access this Federal Register document electronically through the EPA Internet under the “Federal Register” listings at http://www.epa.gov/fedrgstr/. An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above. Once in the system, select “search,” then key in the docket identification number, OAR-2002-0076.

FOR FURTHER INFORMATION CONTACT: If you would like further information about this rule, contact Kathy Kaufman, Integrated Policies and Strategies Group, (919) 541-0102 or by e-mail kaufman.kathy@epa.gov.

SUPPLEMENTARY INFORMATION: On July 1, 1999, we published the final regional haze rule. The regional haze rule provisions appear at 40 CFR 31.308 and 40 CFR 51.309. The rule requires States to develop implementation plans that will make “reasonable progress” toward the national visibility goal. The State plans must include these visibility progress goals for each Class I area, as well as emissions reductions strategies and other measures needed to meet these goals. The rule also provides an optional approach, described in 40 CFR 51.309, that may be followed by the nine Western States (Arizona, California, Colorado, Idaho, Nevada, New Mexico, Oregon, Utah, and Wyoming) that comprise the transport region analyzed by the Grand Canyon Visibility Transport Commission (GCVTC) during the 1990's. This optional approach is also available to eligible Indian Tribes within this geographic region.

On July 3, 2003, we published a direct final action (68 FR 39842) and a parallel proposal (68 FR 39888) to amend the mobile source provisions in 40 CFR 51.309. We stated in the direct final action that if we received adverse comment by August 4, 2003, we would publish a withdrawal notice in the Federal Register. We also stated that if the Agency received no adverse comments, the rule would be effective September 2, 2003. We received adverse comments from the Center for Energy and Economic Development but did not publish the withdrawal notice before September 2, 2003. In this action, EPA is removing the amendments that were published in the July 3, 2003 direct final rule. We will address all public comments in a subsequent final action on the parallel proposed rule amendment.

This removal action is a ministerial correction of the prior direct final rulemaking, which by its terms did not become effective because the Center for Energy and Economic Development commented adversely on the approval action. Therefore, EPA is invoking the good cause exception under the Administrative Procedure Act (APA), 5 U.S.C. 553(b)(3)(B) because EPA believes that notice-and-comment rulemaking of this removal action is contrary to the public interest and unnecessary. This removal action merely restores the regulatory text that existed prior to the direct final rule. Further notice-and-comment on this action is unnecessary because we are merely restoring the regulatory text that existed prior to the final rule. For the same reasons, we believe there is good cause for this removal to become effective upon publication. We will address all public comments in a subsequent final action on the parallel proposed rule amendment.

Statutory and Executive Order Reviews

As discussed above, this removal action merely restores the regulatory text that existed prior to the direct final rule. Under Executive Order 12866 (58 FR 51735, October 4, 1993), this action is not a “significant regulatory action” and is therefore not subject to OMB review. Because this action is not subject to notice-and-comment requirements under the Administrative Procedure Act or any other statute, it is not subject to the Regulatory Flexibility Act (5 U.S.C. 601 et seq.) or sections 202 and 205 of the Unfunded Mandates Reform Act of 1995 (UMRA) (Pub. L. 104-4). In addition, this action does not significantly or uniquely affect small governments. This rule does not have tribal implications, as specified in Executive Order 13175 (63 FR 67249, November 9, 2000). This action will not have federalism implications, as specified in Executive Order 13132 (64 FR 43255, August 10, 1999). This action also is not subject to Executive Order 13045 (62 FR 19885, April 23, 1997), because it is not economically significant. This action is not subject to Executive Order 13211, “Actions Concerning Regulations That Significantly Affect Energy Supply, Distribution, or Use” (66 FR 28355 (May 22, 2001)) because it is not a significant regulatory action under Executive Order 12866. This action does not involve technical standards; thus, the requirements of section 12(d) of the National Technology Transfer and Advancement Act of 1995 (15 U.S.C. 272 note) do not apply. This action also does not impose an information collection burden under the provisions of the Paperwork Reduction Act of 1995 (44 U.S.C. 3501 et seq.).

The Congressional Review Act (5 U.S.C. 801 et seq.) generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication in the Federal Register. This action is not a “major rule” as defined by 5 U.S.C. 804(2).

List of Subjects in 40 CFR Part 51

Environmental protection, Administrative practice and procedure, Air pollution control, Carbon monoxide, Nitrogen dioxide, Particulate matter, Sulfur oxides, Volatile organic compounds.

Dated: October 22, 2003.
Marianne Lamont Horinko,
Acting Administrator.

40 CFR Part 51 is amended as follows:

PART 51—REQUIREMENTS FOR PREPARATION, ADOPTION, AND SUBMITTAL OF IMPLEMENTATION PLANS

1. The authority citation for part 51 continues to read as follows:

Authority: 42 U.S.C. 7401-7671q.

Subpart P—Protection of Visibility

2. Section 51.309 is amended by revising paragraphs (b)(6) and (d)(5)(i); redesignating paragraph (d)(5)(ii) as paragraph (d)(5)(iv); and adding paragraphs (d)(5)(ii) and (d)(5)(iii) to read as follows:

§ 51.309 Requirements related to the Grand Canyon Visibility Transport Commission.

* * * * *

(b) * * *

(6) Mobile Source Emission Budget means the lowest level of VOC, NOX, SO2 elemental and organic carbon, and fine particles which are projected to occur in any area within the transport region from which mobile source emissions are determined to contribute significantly to visibility impairment in any of the 16 Class I areas.

* * * * *

(d) * * *

(5) * * *

(i) Statewide inventories of current annual emissions and projected future annual emissions of VOC, NOX, SO2, elemental carbon, organic carbon, and fine particles from mobile sources for the years 2003 to 2018. The future year inventories must include projections for the year 2005, or an alternative year that is determined by the State to represent the year during which mobile source emissions will be at their lowest levels within the State.

(ii) A determination whether mobile source emissions in any areas of the State contribute significantly to visibility impairment in any of the 16 Class I Areas, based on the statewide inventory of current and projected mobile source emissions.

(iii) For States with areas in which mobile source emissions are found to contribute significantly to visibility impairment in any of the 16 Class I areas:

(A) The establishment and documentation of a mobile source emissions budget for any such area, including provisions requiring the State to restrict the annual VOC, NOX, SO2, elemental and organic carbon, and/or fine particle mobile source emissions to their projected lowest levels, to implement measures to achieve the budget or cap, and to demonstrate compliance with the budget.

(B) An emission tracking system providing for reporting of annual mobile source emissions from the State in the periodic implementation plan revisions required by paragraph (d)(10) of this section. The emission tracking system must be sufficient to determine the States' contribution toward the Commission's objective of reducing emissions from mobile sources by 2005 or an alternate year that is determined by the State to represent the year during which mobile source emissions will be at their lowest levels within the State, and to ensure that mobile source emissions do not increase thereafter.

* * * * *

[FR Doc. 03-27159 Filed 10-27-03; 8:45 am]

BILLING CODE 6560-50-P